DEPARTMENT OF ENERGY

Secretary of Energy Advisory Board

AGENCY: Department of Energy.

ACTION: Notice of open meeting.

SUMMARY: The Department of Energy hereby publishes a notice of open meeting of the Secretary of Energy Advisory Board (SEAB). Due to the COVID-19 pandemic, this meeting will be held virtually.

DATES: Thursday, October 28, 2021; 1:00 p.m.-2:00 p.m.

ADDRESSES: Virtual meeting. To receive the meeting login information, please contact the Board's Designated Federal Officer (DFO) at the address or email listed below. Due to remote working conditions, email is preferred.

FOR FURTHER INFORMATION CONTACT: Christopher Lawrence, Designated Federal Officer, U.S. Department of Energy, 1000 Independence Avenue SW, Washington, DC 20585; email: seab@hq.doe.gov.

SUPPLEMENTARY INFORMATION:

Background: The Board was established to provide advice and recommendations to the Secretary on the Administration's energy policies; the Department's basic and applied research and development activities; economic and national security policy; and other activities as directed by the Secretary.

Purpose of the Meeting: This is the inaugural meeting of Secretary Jennifer M. Granholm's SEAB.

Tentative Agenda: The meeting will start at 1:00 p.m. on October 28th. The tentative meeting agenda includes: Introduction of SEAB's members, remarks from the Secretary, and remarks from the SEAB Chair. The meeting will conclude at 2:00 p.m.

Public Participation: The meeting is open to the public. Individuals who would like to attend must RSVP to Christopher Lawrence no later than 5:00 p.m. on Wednesday, October 27, 2021, by email at: seab@hq.doe.gov.

Individuals and representatives of organizations who would like to offer comments and suggestions may do so during the meeting. Approximately 15 minutes will be reserved for public comments. Time allotted per speaker will depend on the number who wish to speak but will not exceed five minutes. The Designated Federal Officer is empowered to conduct the meeting in a fashion that will facilitate the orderly conduct of business. Those wishing to speak should register to do so via email, seab@hq.doe.gov, no later than 5:00 p.m. on Wednesday, October 27, 2021.

Those not able to attend the meeting or who have insufficient time to address the committee are invited to send a written statement to Christopher Lawrence, U.S. Department of Energy, 1000 Independence Avenue SW, Washington, DC 20585, or email to: seab@hq.doe.gov.

Minutes: The minutes of the meeting will be available on the SEAB website or by contacting Mr. Lawrence. He may be reached at the above postal address or email address, or by visiting SEAB's website at www.energy.gov/seab.

Signed in Washington, DC, on October 6, 2021.
LaTanya Butler,
Deputy Committee Management Officer.

[FR Doc. 2021-22107 Filed 10-8-21; 8:45 am]

BILLING CODE 6450-01-P